DEPARTMENT OF VETERANS AFFAIRS

Computer Matching Program Between the Department of Veterans Affairs and the Department of Defense

AGENCY: Department of Veterans Affairs.

ACTION: Notice of computer matching program.

SUMMARY: Notice is hereby given that the Department of Veterans Affairs (VA) intends to conduct a recurring computer matching program. This will match personnel records of the Department of Defense (DOD) with VA records of benefit recipients under the Montgomery GI Bill.

The goal of these matches is to identify the eligibility status of veterans, servicemembers, and reservists who have applied for or who are receiving education benefit payments under the Montgomery GI Bill. The purpose of the match is to enable VA to verify that individuals meet the conditions of military service and eligibility criteria for payment of benefits determined by VA under the Montgomery GI Bill_Active Duty (MGIB) and the Montgomery GI Bill—Selected Reserve (MGIB-09SR).

DATES: This match will commence on or about September 14, 2000. At the expiration of 18 months after the commencing date the departments may renew the agreement for another 12 months.

FOR FURTHER INFORMATION CONTACT: Jerry Weeks (224), Acting Assistant Director for Procedures and Systems, Education Service, Veterans Benefits Administration, Department of Veterans Affairs, 810 Vermont Avenue NW, Washington, DC 20420, (202) 273-7181.

SUPPLEMENTARY INFORMATION: Further information regarding the matching program is provided below. This information is required by paragraph 6c of the “Guidelines on the Conduct of Matching Programs” issued by the Office of Management and Budget (OMB) (54 FR 25818), as amended by OMB Circular A-130, 61 FR 6435 (1996). A copy of this has been provided to both Houses of Congress and the Office of Management and Budget. The matching program is subject to their review.

a. Names of participating agencies: Department of Defense and Department of Veterans Affairs.

b. Purpose of the match: The purpose of the match is to enable VA to determine whether an applicant is eligible for payment of benefits under the MGIB or the MGIB-SR and to verify continued compliance with the requirements of both programs.

c. Authority: The authority to conduct this match is found in 38 U.S.C. 3684A(a)(1).

d. Categories of records and individuals covered: The records covered include eligibility records extracted from DOD personnel files and benefit records that VA establishes for all individuals who have applied for and/or are receiving, or have received education benefit payments under the Montgomery GI Bill. These benefit records are contained in a VA system of records identified as 58VA21/22 entitled: Compensation, Pension, Education and Rehabilitation Records—VA, first published in the Federal Register at 41 FR 924 (March 3, 1976), and last amended at 63 FR 37941 (July 14, 1998), with other amendments as cited therein.

e. Inclusive dates of the matching program: The match will begin on September 14, 2000 or 40 days after the OMB review period, whichever is later and continue in effect for 18 months.

f. Address for receipt of public inquiries or comments: Interested individuals may submit written comments to the Director, Office of Regulations Management (02D), Department of Veterans Affairs, 810 Vermont Avenue, NW., Room 1154, Washington, DC 20420. Comments will be available for public inspection at the above address in the Office of Regulations Management, Room 1158, between 8 a.m. and 4:30 p.m.

Approved: August 2, 2000.
Hershel W. Gober,
Acting Secretary of Veterans Affairs.

[FR Doc. 00-20739 Filed 8-14-00; 8:45 am]

BILLING CODE 8320-01-P